DEPARTMENT OF THE INTERIOR

Bureau of Indian Affairs

Indian Gaming

AGENCY: Bureau of Indian Affairs, Interior.

ACTION: Notice of approved amendments to Tribal-State Compacts.

SUMMARY: This notice publishes approval of Amendments to the Tribal-State Compacts between the State of California and the following 5 California Indian tribes: Rumsey Band of Wintun Indians, Pala Band of Mission Indians, Pauma Band of Luiseno Mission Indians, United Auburn Indian Community, and Viejas Band of Kumeyaay Indians.

EFFECTIVE DATE: September 2, 2004.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands.

The compacts listed in the summary are amended to offer additional consumer protections and to facilitate arrangements to mitigate, to the extent practicable, the off-reservation environmental and direct fiscal impacts on local communities and local governments. A new section is added to require the testing of gaming devices, a provision of the existing compact regarding applicable building codes is expanded, the provision relating to patron disputes is enhanced to facilitate the resolution of patron complaints, the provision relating to third party injuries is modified to enhance the protection of patrons, and the provision relating to off-reservation impacts is amended to require the development and processing of a Tribal Environmental Impact Report. There are also minor amendments to sections relating to the licensure of financial sources and labor relations. Finally, the term of the compacts is extended until December 31, 2030 (ten-year extension over previous term). The Amendments also authorize annual payments to the State in exchange for geographical exclusivity. The Secretary of the Interior is publishing notice that the Amendments to the Tribal-State Compacts between the State of California and the Rumsey Band of Wintun Indians, Pala Band of Mission Indians, Pauma Band of Luiseno Mission Indians, United Auburn Indian Community, and Viejas Band of Kumeyaay Indians are now in effect.

Dated: August 27, 2004.
George T. Skibine,
Director, Office of Indian Gaming Management.

[FR Doc. 04-20000 Filed 9-1-04; 8:45 am]

BILLING CODE 4310-4N-P